DEPARTMENT OF VETERANS AFFAIRS

Advisory Committee on Homeless Veterans, Notice of Meeting

The Department of Veterans Affairs (VA) gives notice under Public Law 92-463 (Federal Advisory Committee Act) that a meeting of the Advisory Committee on Homeless Veterans will be held February 8-10, 1006. The Committee will meet at 8 a.m. to 4:30 p.m. each day in the Oasis Room at the Hamilton Crowne Plaza Hotel, 1001 14th Street, NW., Washington, DC. The meeting is open to the public.

The purpose of the Committee is to advise the Secretary of Veterans Affairs with an ongoing assessment of the effectiveness of the policies, organizational structures, and services of the Department in assisting homeless veterans. The Committee shall assemble and review information relating to the needs of homeless veterans and provide ongoing advice on the most appropriate means of providing assistance to homeless veterans. The Committee will make recommendations to the Secretary regarding such activities.

On February 8 and 9, the Committee will receive reports from program experts, assess the availability of health care and benefit services, receive reports from other federal departments and advocacy groups and review other initiatives designed to assist veterans who are homeless. On February 10, the Committee will review the 2005 annual report responses, review future issues for consideration at its next meeting and prepare to develop its 2006 annual report.

Those wishing to attend the meeting should contact Mr. Pete Dougherty, Designated Federal Officer, at (202) 273-5764. No time will be allocated for receiving oral presentations during the public meeting. However, the Committee will accept written comments from interested parties or issues affecting homeless veterans. Such comments should be referred to the Committee at the following address:

Advisory Committee on Homeless Veterans, Homeless Veterans Programs Office (075D), U.S. Department of Veterans Affairs, 810 Vermont Avenue, NW., Washington, DC 20420.

Dated: September 9, 2005.
By Direction of the Secretary.
E. Philip Riggin,
Committee Management Officer.

[FR Doc. 06-294 Filed 1-12-06; 8:45 am]

BILLING CODE 8320-01-M